LEGAL SERVICES CORPORATION

Sunshine Act Meetings of the Board of Directors and four of the Board's Committees

Times and Dates: The Legal Services Corporation Board of Directors and four of its Committees will meet July 28 and 30, 2005 in the order set forth in the following schedule.

Meeting Schedule

Thursday, July 28, 2005

1. Performance Reviews Committee 9 a.m.

2. Finance Committee

3. Operations and Regulations Committee

4. Provision for the Delivery of Legal Services Committee

Saturday, July 30, 2005

1. Board of Directors—9 a.m.

Location: The Hyatt Regency Monterey, 1 Old Golf Course Road, Monterey, California.

Status of Meetings: Open, except as noted below.

• Status: July 28, 2005 Annual Performance Reviews Committee Meeting—Closed. The Performance Reviews Committee meeting may be closed to the public pursuant to a vote of the Board of Directors authorizing the Committee in its executive session to consider and act on the process to be used for evaluation of the Corporation's President and on the issue of an annual performance review of the Inspector General. The closing will be authorized by the relevant provisions of the Government in the Sunshine Act (5 U.S.C. 552b(c)(2) and the Legal Services Corporation's corresponding regulation 45 CFR 1622.5(a). A copy of the General Counsel's Certification that the closing is authorized by law will be available upon request.

• Status: July 30, 2005 Board of Directors Meeting—Open, except that a portion of the meeting of the Board of Directors may be closed pursuant to a vote of the Board of Directors to hold an executive session. At the closed session, the Board will consider and may act on the General Counsel's report on litigation to which the Corporation is or may become a party; discuss internal procedures with the Inspector General (“IG”); receive a briefing from the IG on investigations being conducted by the Office of Inspector General (“OIG”); review the Workplan of the OIG; consider and may act on an internal personnel matter; and will consider and may act on delegation of authority to the Board Chairman to negotiate revisions to the President's contract of employment with LSC. The closing is authorized by 5 U.S.C. 552b(c)(2) and LSC's corresponding regulation 45 CFR 1622.5(a); 5 U.S.C. 552b(c)(5) and LSC's corresponding regulation 45 CFR 1622.5(d); 5 U.S.C. 552b(c)(6) and LSC's corresponding regulation 45 CFR 1622.5(e); 5 U.S.C. 552b(c)(10) and LSC's implementing regulation 45 CFR 1622.5(h). A copy of the General Counsel's Certification that the closing is authorized by law will be available upon request.

Matters to be Considered:

Thursday, July 28, 2005

Performance Reviews Committee

Closed Session

1. Approval of agenda

2. Consider and act on internal procedures for annual performance review of LSC President

3. Consider and act on issue of annual performance review of LSC Inspector General

4. Consider and act on other business

5. Consider and act on adjournment of meeting

Finance Committee

Open Session

1. Approval of agenda

2. Approval of the minutes of the Committee's meeting of April 30, 2005

3. Presentation on LSC's Financial Reports for the Eight-Month Period Ending May 31, 2005

4. Report on FY 2005 Internal Budgetary Adjustments

5. Consider and act on Consolidated Operating Budget Reallocation, Resolution 2005-006

6. Report on the status of the FY 2006 Appropriations process

7. Consider and act on adoption of FY 2006 Temporary Operating Authority effective October 1, 2005, Resolution 2005-007

8. Discussion regarding planning for FY 2007 Budget

9. Consider and act on other business

10. Public comment

11. Consider and act on adjournment of meeting

Operations & Regulations Committee

Open Session

1. Approval of agenda

2. Approval of the Committee's meeting minutes of April 1, 2005

3. Approval of the Committee's meeting minutes of April 29, 2005

4. Consider and act on Final Rule on Financial Eligibility, 45 CFR part 1611

a. Staff report

b. Public comment

5. Consider and act on adoption of a rulemaking agenda for 2005-2000

a. Staff report

b. Public comment

6. Consider and act on 2006 Grant Assurances

a. Staff report

b. Public comment

7. Consider and act on staff report concerning LSC's implementation of the Government in the Sunshine Act

a. Staff report

b. Public comment

8. Other public comment

9. Consider and act on other business

10. Consider and act on adjournment of meeting

Provision for the Delivery of Legal Services Committee

Open Session

1. Approval of agenda

2. Approval of the Committee's meeting minutes of April 29, 2005

3. Presentations on the delivery of legal services to migrants, including: who are migrants, the legal services provided including mediation, and the do's and don'ts of migrant representation:

a. Michelle Besso—Sr. Attorney, Farmworker Unit, Northwest Justice Project, Washington

b. Janice Morgan—Farmworker Program Director, Legal Aid Services of Oregon

c. Jack Londen—California Access to Justice Commission, Morrison & Foerester

d. Marina Ocampo—Migrant Ministry Coordinator, Catholic Diocese

e. Migrant Farm Worker

f. Jose Padilla—Executive Director, CRLA

4. Public comment

5. Consider and act on other business

6. Consider and act on adjournment of meeting

Saturday, July 30, 2005

Board of Directors Meeting

Open Session

1. Approval of agenda

2. Approval of minutes of the Board's meeting of April 30, 2005

3. Approval of minutes of the Executive Session of the Board's meeting of April 30, 2005

4. Consider and act on the review and development of Strategic Directions

5. Chairman's Report

6. Members' Reports

7. President's Report

8. Inspector General's Report

9. Consider and act on the report of the Committee on the Provision for the Delivery of Legal Services

10. Consider and act on the report of the Finance Committee

11. Consider and act on the report of the Operations & Regulations Committee

12. Consider and act on the report of the Performance Reviews Committee

13. Consider and act on Board's meeting schedule for calendar year 2006

14. Consider and act on other business

15. Public comment

16. Consider and act on whether to authorize an executive session of the Board to address items listed below under Closed Session

Closed Session

17. Consider and act on General Counsel's report on potential and pending litigation involving LSC

18. Discussion of internal procedures with OIG

19. Briefing ¹ on OIG investigations

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 and 1622.3.

20. Review of OIG Workplan

21. Consider and act on internal personnel matter

22. Consider and act on delegation of authority to the Board Chairman to negotiate revisions to the President's contract of employment with LSC

23. Consider and act on motion to adjourn meeting

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: July 21, 2005.
Victor M. Fortuno,
Vice President for Legal Affairs, General Counsel & Corporate Secretary.

[FR Doc. 05-14782 Filed 7-21-05; 5:12 pm]

BILLING CODE 7050-01-P